OFFICE OF PERSONNEL MANAGEMENT

Submission for Review: Renewal of an Existing Information Collection, CAHPS Enrollee Survey; OMB Control No. 3206-0274

AGENCY: Office of Personnel Management.

ACTION: 30-Day notice with request for comments.

SUMMARY: Healthcare and Insurance, Office of Personnel Management (OPM) offers the general public and other federal agencies the opportunity to comment on the Consumer Assessment of Healthcare Providers and Systems (CAHPS®) surveys. The CAHPS® surveys ask consumers and patients to report on and evaluate their experiences with health care. These surveys cover topics that are important to consumers and focus on aspects of quality that consumers are best qualified to assess, such as the communication skills of providers and ease of access to health care services.

DATES: Comments are encouraged and will be accepted until December 1, 2025. This process is conducted in accordance with 5 CFR part 1320.

ADDRESSES: Written comments and recommendations for proposed information collection requests should be sent within 30 days of publication of this notice to www.reginfo.gov/public/do/PRAMain. Find this particular information collection request by selecting “Office of Personnel Management” under “Currently Under Review,” then check “Only Show ICR for Public Comment” checkbox.

FOR FURTHER INFORMATION CONTACT: A copy of this information collection request (ICR), with applicable supporting documentation, may be obtained by contacting Meredith Gitangu, Office of Personnel Management, 1900 E Street NW, Washington, DC 20415, or via electronic mail to FEHBPerformance@OPM.gov.

SUPPLEMENTARY INFORMATION: The Office of Personnel Management, in accordance with the Paperwork Reduction Act of 1995 (PRA) (44 U.S.C. chapter 35), provides the public with an opportunity to comment on proposed, revised, and continuing collections of information. This helps the Agency assess the impact of its information collection requirements and minimize the public's reporting burden. It also helps the public understand the Agency's information collection requirements and provide the requested data in the desired format. This information collection was previously published in the Federal Register on June 25, 2025, 90 FR 27058, and closed August 25, 2025. One (1) comment was received. The commenter recommended not delaying the implementation of the national healthcare system after experiencing denial of a claim for medical services. OPM has determined this comment is outside the scope of the ICR.

OPM is soliciting comments on behalf of OMB for the proposed information collection request (ICR) that is described below. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Abstract

OPM uses the CAHPS results as part of the FEHB Plan Performance Assessment (PPA). The PPA enables a consistent, objective evaluation of carrier performance and also provides more transparency for enrollees. This assessment uses a discrete set of quantifiable measures to examine key aspects of performance in the areas of clinical quality, customer service and resource use. Six CAHPS measures are part of this discrete set of quantifiable measures.

Taken together with more traditional assessments of contract administration, these measures help ensure that enrollees receive high quality affordable healthcare and a positive customer experience. The PPA is linked to carrier profit and adjustment factors. FEHB contracts include language to incorporate the PPA as a determinant of the Service Charge or Performance Adjustment.

Analysis

Agency: Office of Personnel Management.

Title: CAHPS Survey.

OMB Number: 3206-0274.

Frequency: Annually.

Affected Public: Federal Employees and Retirees (Including Postal employees and Retirees).

Number of Respondents: 48,829.

Estimated Time per Respondent: 15 Minutes.

Total Burden Hours: 12,207 hours.

Alexys Stanley,
Federal Register Liaison.

[FR Doc. 2025-19736 Filed 10-30-25; 8:45 am]

BILLING CODE 6325-63-P